DEPARTMENT OF COMMERCE

International Trade Administration

[A-570-058]

Certain Cold-Drawn Mechanical Tubing of Carbon and Alloy Steel From the People's Republic of China: Notice of Rescission of the Antidumping Duty Administrative Review; 2017-2019

AGENCY: Enforcement and Compliance, International Trade Administration, Department of Commerce.

SUMMARY: The Department of Commerce (Commerce) is rescinding the administrative review of the antidumping duty order on certain cold-drawn mechanical tubing of carbon and alloy steel (cold-drawn mechanical tubing) from the People's Republic of China (China) for the period November 22, 2017 through May 31, 2019.

DATES: Applicable January 8, 2020.

FOR FURTHER INFORMATION CONTACT: Charles Doss, AD/CVD Operations, Office III, Enforcement and Compliance, International Trade Administration, U.S. Department of Commerce, 1401 Constitution Avenue NW, Washington, DC 20230; telephone: (202) 482-4474.

SUPPLEMENTARY INFORMATION:

Background

On June 3, 2019, Commerce published a notice of opportunity to request an administrative review of the antidumping duty order on cold-drawn mechanical tubing from China for the period November 22, 2017, through May 31, 2019.¹ On June 27, 2019, Commerce received a timely request for review from Zhangjiagang Huacheng Import & Export Co., Ltd. (Huacheng).² On July 1, 2019, the petitioners ³ filed a timely request for review with respect to 24 companies.⁴ Additionally, on July 1, 2019, Commerce received a timely request for review from Howmet Corp Logistics Services, a unit of Arconic Inc. (Howmet) (a U.S. importer of subject merchandise) for review of merchandise produced by Wuxi P&C Machinery Co., Ltd. (Wuxi) and exported by Benteler Distribution Ltd (Benteler).⁵ Based on these requests, on July 29, 2019, in accordance with section 751(a) of the Tariff Act of 1930, as amended (the Act), Commerce published in the Federal Register a notice of initiation of an administrative review covering the period November 22, 2017 through May 31, 2019.⁶

¹ See Antidumping or Countervailing Duty Order, Finding, or Suspended Investigation; Opportunity to Request Administrative Review, 84 FR 25521 (June 3, 2019).

² See Huacheng's Letter, “Administrative Review of the Antidumping Duty Order on Certain Cold-Drawn Mechanical Tubing of Carbon and Alloy Steel from the People's Republic of China; Request for Administrative Review,” dated June 27, 2019.

³ The petitioners are ArcelorMittal Tubular Products LLC, Michigan Seamless Tube, LLC, PTC Alliance Corp., and Webco Industries, Inc.

⁴ See Petitioners' Letter, “Cold-Drawn Mechanical Tubing from the People's Republic of China—Domestic Industry's Request for First Administrative Review,” dated July 1, 2019.

⁵ See Howmet's Letters, “Certain Cold-Drawn Mechanical Tubing of Carbon and Alloy Steel from the People's Republic of China: Request for Administrative Review” and “Certain Cold-Drawn Mechanical Tubing of Carbon and Alloy Steel from the People's Republic of China: Amendment of the Request for Administrative Review,” both dated July 1, 2019.

⁶ See Initiation of Antidumping and Countervailing Duty Administrative Reviews, 84 FR 36572 (July 29, 2019).

On July 31, 2019, Howmet submitted a timely request to withdraw its request for administrative review.⁷ On October 8, 2019, the petitioners submitted a timely request to withdraw their request for administrative review with respect to all entities for which they had requested a review.⁸ On October 10, 2019, Huacheng submitted a timely request to withdraw its request for administrative review.⁹

⁷ See Howmet's Letter, “Certain Cold-Drawn Mechanical Tubing of Carbon and Alloy Steel from the People's Republic of China: Withdrawal of Request for Administrative Review,” dated July 31, 2019.

⁸ See Petitioners' Letter, “Cold-Drawn Mechanical Tubing from the People's—Domestic Industry's Withdrawal of Request for First Administrative Review,” dated October 8, 2019.

⁹ See Huacheng's Letter, “Cold-Drawn Mechanical Tubing from the People's Republic of China: Huacheng's Withdrawal of Request for First Administrative Review,” dated October 10, 2019.

Rescission of Review

Pursuant to 19 CFR 351.213(d)(1), Commerce will rescind an administrative review, in whole or in part, if the parties that requested the review withdraw the request within 90 days of the date of publication of the notice of initiation of the requested review. As noted above, the petitioners, Howmet, and Huacheng fully withdrew their respective review requests by the 90-day deadline. As such, Commerce is in receipt of timely requests for withdrawal of the instant administrative review with respect to all companies listed in the Initiation Notice. Accordingly, we are rescinding the administrative review of the antidumping duty order on cold-drawn mechanical tubing from China for the period November 22, 2017 through May 31, 2019, in its entirety.

Assessment

Commerce will instruct U.S. Customs and Border Protection (CBP) to assess antidumping duties on all appropriate entries of cold-drawn mechanical tubing from China at rates equal to the cash deposit of estimated antidumping duties required at the time of entry, or withdrawal from warehouse, for consumption, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping and/or countervailing duties occurred and the subsequent assessment of doubled antidumping duties.

Notification Regarding Administrative Protective Order

This notice serves as a final reminder to parties subject to an administrative protective order (APO) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: December 31, 2019.
James Maeder,
Deputy Assistant Secretary for Antidumping and Countervailing Duty Operations.

[FR Doc. 2020-00048 Filed 1-7-20; 8:45 am]

BILLING CODE 3510-DS-P